DEPARTMENT OF ENERGY

Federal Energy Regulatory Commission

[Docket No. IC21-33-000]

Commission Information Collection Activities (Ferc-566); Comment Request; Extension

AGENCY: Federal Energy Regulatory Commission, Department of Energy.

ACTION: Notice of information collection and request for comments.

SUMMARY: In compliance with the requirements of the Paperwork Reduction Act of 1995, the Federal Energy Regulatory Commission (Commission or FERC) is soliciting public comment on the currently approved information collection, FERC-566 (Annual Report of a Utility's 20 Largest Purchasers), which will be submitted to the Office of Management and Budget (OMB) for a review of the information collection requirements.

DATES: Comments on the collection of information are due October 7, 2021.

ADDRESSES: Send written comments on FERC-566 to OMB through www.reginfo.gov/public/do/PRAMain, Attention: Federal Energy Regulatory Commission Desk Officer. Please identify the OMB control number (1902-0114) in the subject line. Your comments should be sent within 30 days of publication of this notice in the Federal Register.

Please submit copies of your comments (identified by Docket No. IC21-33-000) to the Commission as noted below. Electronic filing through http://www.ferc.gov, is preferred.

• Electronic Filing: Documents must be filed in acceptable native applications and print-to-PDF, but not in scanned or picture format.

• For those unable to file electronically, comments may be filed by USPS mail or by hand (including courier) delivery.

○ Mail via U.S. Postal Service Only: Addressed to: Federal Energy Regulatory Commission, Secretary of the Commission, 888 First Street NE, Washington, DC 20426.

○ Hand (Including Courier) Delivery: Deliver to: Federal Energy Regulatory Commission, 12225 Wilkins Avenue, Rockville, MD 20852.

Instructions:

OMB submissions must be formatted and filed in accordance with submission guidelines at www.reginfo.gov/public/do/PRAMain; Using the search function under the “Currently Under Review field,” select Federal Energy Regulatory Commission; click “submit” and select “comment” to the right of the subject collection.

FERC submissions must be formatted and filed in accordance with submission guidelines at: http://www.ferc.gov. For user assistance, contact FERC Online Support by email at ferconlinesupport@ferc.gov, or by phone at: (866) 208-3676 (toll-free).

Docket: Users interested in receiving automatic notification of activity in this docket or in viewing/downloading comments and issuances in this docket may do so at http://www.ferc.gov.

FOR FURTHER INFORMATION CONTACT: Ellen Brown may be reached by email at DataClearance@FERC.gov and telephone at (202) 502-8663.

SUPPLEMENTARY INFORMATION: Title: FERC-566 (Annual Report of a Utility's 20 Largest Purchasers).

OMB Control No.: 1902-0114.

Type of Request: Three-year extension of the FERC-566 information collection requirements with no revisions to the current requirements.

Abstract: Section 305(c) of the Federal Power Act (FPA),¹ mandates federal oversight and approval of certain electric corporate activities to ensure that neither public nor private interests are adversely affected. The FPA prescribes information filing requirements to achieve this goal. These filing requirements are found at 18 CFR 131.31, and serve as the basis for FERC-566.

¹ 16 U.S.C. 825d.

FERC-566 implements FPA requirements that each public utility annually publishes a list of the 20 purchasers which purchased the largest annual amounts of electric energy sold by such public utility during any of the three previous calendar years. The public disclosure of this information provides the information necessary to determine whether public or private interests will be adversely affected by business relationships between public utilities and their 20 largest purchasers of electricity.

This information collection request includes proposed changes in Form 566 in accordance with the public display requirements at 5 CFR 1320.5(b).

Type of Respondents: Public utilities.

Estimate of Annual Burden: The Commission estimates 321 responses annually, and 4 hours and $332 per response. The total estimated burdens per year are 1,284 hours and $106,572. These burdens are itemized in the following table:

Number of respondents | Annual number of responses per respondent | Total number of responses (column A × column B) | Average burden & cost per response ² | Total annual burden hours & total annual cost (column C × column D) | Cost per respondent ($) (column E ÷ column A)
A. | B. | C. | D. | E. | F.
321 | 1 | 321 | 4 hrs.; $348 | 1,284 hrs.; $111,708 | $348

Comments are invited on: (1) Whether the collection of information is necessary for the proper performance of the functions of the Commission, including whether the information will have practical utility; (2) the accuracy of the agency's estimate of the burden and cost of the collection of information, including the validity of the methodology and assumptions used; (3) ways to enhance the quality, utility and clarity of the information collection; and (4) ways to minimize the burden of the collection of information on those who are to respond, including the use of automated collection techniques or other forms of information technology.

² Commission staff estimates that the average industry hourly cost for this information collection is approximated by the current FERC 2021 average hourly costs for wages and benefits, i.e., $87.00/hour.

Dated: September 1, 2021.
Kimberly D. Bose,
Secretary.

[FR Doc. 2021-19359 Filed 9-3-21; 8:45 am]

BILLING CODE 6717-01-P